DEPARTMENT OF COMMERCE

National Oceanic and Atmospheric Administration

[I.D. 050901E]

Pacific Fishery Management Council; Public Meetings

AGENCY: National Marine Fisheries Service (NMFS), National Oceanic and Atmospheric Administration (NOAA), Commerce.

ACTION: Notice of public meetings.

SUMMARY: The Pacific Fishery Management Council (Council) and its advisory entities will hold public meetings.

DATES: The Council and its advisory entities will meet June 10-15, 2001. The Council meeting will begin on Tuesday, June 12, at 8 a.m., reconvening each day through Friday. All meetings are open to the public, except a closed session will be held from 8 a.m. until 8:30 a.m. on Tuesday, June 12 to address litigation and personnel matters. The Council will meet as late as necessary each day to complete its scheduled business.

ADDRESSES: The meetings will be held at the Park Plaza Hotel, 1177 Airport Boulevard, Burlingame, CA 94010; telephone: 650-342-9200.

Council address: Pacific Fishery Management Council, 2130 SW Fifth Avenue, Suite 224, Portland, OR 97201.

FOR FURTHER INFORMATION CONTACT: Dr. Donald O. McIsaac, Executive Director; telephone: (503)326-6352.

SUPPLEMENTARY INFORMATION: The following items are on the Council agenda, but not necessarily in this order. All items listed are subject to potential Council action.

A. Call to Order

1. Opening Remarks, Introductions,

2. Roll Call

3. Executive Director’s Report

4. Approve Agenda

5. Approve March 2001 and April 2001 Minutes

B. Salmon Management

1. NMFS Report

2. Sequence of Events and Status of Fisheries

C. Groundfish Management

1. NMFS Report

2. Sablefish Three-Tier Program Qualification with Setnet Landings

3. Marine Recreational Fisheries Statistics Survey Update

4. Status of the 2001 Stock Assessment Review Panel Meetings

5. Stock Assessment Priorities for 2002

6. Experimental Fishing Permit (EFP) Applications

7. Limited Entry Fixed Gear Sablefish Permit Stacking and Season for 2001 and beyond

8. Incidental Pacific Halibut Harvest Restrictions for the Primary, Limited Entry Longline Sablefish Fishery North of Point Chehalis, Washington

9. Strategic Plan Implementation

10. Rebuilding Plans for Canary Rockfish, Cowcod, Pacific Ocean Perch, Bocaccio, Lingcod, Widow Rockfish, and Darkblotched Rockfish

11. Preliminary Harvest Levels for 2002

12. American Fisheries Act Management Measures

13. Status of Fisheries and Inseason Adjustments

14. Full Retention Measures

D. Habitat Issues

Essential Fish Habitat Issues

E. Marine Reserves

1. Review of West Coast Marine Reserves Efforts

2. Marine Reserves in the Channel Island National Marine Sanctuary

F. Highly Migratory Species Management

1. International Highly Migratory Species (HMS) Discussions and Actions

2. Public Review Draft of the HMS Fishery Management Plan (FMP)

3. Draft FMP Public Hearing Schedule

G. Coastal Pelagic Species Management

1. Exempted Fishing Permit Applications

2. Pacific Mackerel Harvest Guideline and Other Specifications for 2002

3. Market Squid Maximum Sustainable Yield (MSY) Methodology Review Workshop

H. Administrative and Other Matters

1. Report of the Budget Committee

2. Status of Legislation

3. Appointments to Advisory Bodies or Other Council Positions

4. Council Staff Work Load Priorities

5. September 2001 Council Meeting Draft Agenda

SCHEDULE OF ANCILLARY MEETINGS

SUNDAY, JUNE 10, 2001

Scientific and Statistical Committee

Highly Migratory Species Subcommittee 10 a.m.

MONDAY, JUNE 11, 2001

Council Secretariate 7 a.m.

Groundfish Advisory Subpanel 8 a.m.

Groundfish Management Team 8 a.m.

Scientific and Statistical Committee 8 a.m.

Budget Committee 10 a.m.

Habitat Steering Group 1 p.m.

Highly Migratory Species Advisory Subpanel 1 p.m.

TUESDAY, JUNE 12, 2001

Council Secretariate 7 a.m.

California State Delegation 7 a.m.

Oregon State Delegation 7 a.m.

Washington State Delegation 7 a.m.

Scientific and Statistical Committee 8 a.m.

Habitat Steering Group 8 a.m.-noon

Highly Migratory Species Advisory Subpanel 8 a.m.-noon

Groundfish Advisory Subpanel 8 a.m.

Groundfish Management Team: As necessary

Enforcement Consultants: Immediately following Council Session

Groundfish FMP EIS Scoping Meeting 7 p.m.

WEDNESDAY, JUNE 13, 2001

Council Secretariate 7 a.m.

California State Delegation 7 a.m.

Oregon State Delegation 7 a.m.

Washington State Delegation 7 a.m.

Groundfish Advisory Subpanel: As necessary

Groundfish Management Team: As necessary

Enforcement Consultants: As necessary

THURSDAY, JUNE 14, 2001

Council Secretariate 7 a.m.

California State Delegation 7 a.m.

Oregon State Delegation 7 a.m.

Washington State Delegation 7 a.m.

Groundfish Management Team: As necessary

Enforcement Consultants: As necessary

FRIDAY, JUNE 15, 2001

Council Secretariate 7 a.m.

California State Delegation 7 a.m.

Oregon State Delegation 7 a.m.

Washington State Delegation 7 a.m.

Enforcement Consultants: As necessary

Although non-emergency issues not contained in this agenda may come before this Council for discussion, those issues may not be the subject of formal Council action during this meeting. Council action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Ms. Carolyn Porter at (503) 326--6352 at least 5 days prior to the meeting date.

Dated: May 11, 2001.
Richard W. Surdi,
Acting Director, Office of Sustainable Fisheries, National Marine Fisheries Service.

[FR Doc. 01-12748 Filed 5-18-01; 8:45 am]

BILLING CODE 3510-22-S